ENVIRONMENTAL PROTECTION AGENCY

40 CFR Part 63

[OAR-2003-0014; FRL-7797-7]

RIN 2060-AM29

National Emission Standards for Hazardous Air Pollutants: Printing, Coating, and Dyeing of Fabrics and Other Textiles

AGENCY: Environmental Protection Agency (EPA).

ACTION: Proposed rule; amendment.

SUMMARY: On May 29, 2003 (68 FR 32172), EPA issued national emission standards for hazardous air pollutants for printing, coating, and dyeing of fabrics and other textiles (Fabric NESHAP) under section 112 of the Clean Air Act (CAA). This action would amend the standards to clarify the applicability of the Fabric NESHAP to coating, slashing, dyeing, or finishing operations at synthetic fiber manufacturing facilities where the fibers are the final product of the facility. The printing, coating, and dyeing of fabrics and other textiles source category does not include any synthetic fiber manufacturing operations, and we did not intend to impose any requirements on such operations in the final Fabric NESHAP.

In the Rules and Regulations section of this Federal Register, we are taking direct final action on the proposed amendment because we view the amendment as noncontroversial and anticipate no adverse comments. We have explained our reasons for the amendment in the direct final rule. If we receive no significant adverse comments, we will take no further action on the proposed amendment. If we receive significant adverse comments, we will withdraw only those provisions of the direct final rule on which we received significant adverse comments. We will publish a timely withdrawal in the Federal Register indicating which provisions will become effective and which provisions are being withdrawn. If part or all of the direct final rule in the Rules and Regulations section of today's Federal Register is withdrawn, all comments pertaining to those provisions will be addressed in a subsequent final rule based on the proposed amendment. We will not institute a second comment period on the subsequent final action. Any parties interested in commenting must do so at this time.

DATES: We must receive written comments on or before September 3, 2004, unless a hearing is requested by August 16, 2004. If a timely hearing request is submitted, we must receive written comments on or before September 20, 2004.

ADDRESSES: Comments. Submit your comments, identified by Docket ID No. OAR-2003-0014 (formerly Docket No. A-97-51), by one of the following methods:

• Federal eRulemaking Portal: http://www.regulations.gov. Follow the on-line instructions for submitting comments.

• Agency Web site: http://www.epa.gov/edocket. EDOCKET, EPA's electronic public docket and comment system, is EPA's preferred method for receiving comments. Follow the online instructions for submitting comments.

• E-mail: http://www.epa.gov/edocket and almodovar.paul@epa.gov.

• Fax: (202) 566-1741 and (919) 541-5689.

• Mail: U.S. Postal Service, send comments to: HQ EPA Docket Center (6102T), Attention Docket Number OAR-2003-0014, 1200 Pennsylvania Avenue, NW., Washington, DC 20460. (Please include a total of 2 copies.)

• Hand Delivery: In person or by courier, deliver comments to: HQ EPA Docket Center (6102T), Attention Docket ID Number OAR-2003-0014, 1301 Constitution Avenue, NW., Room B-108, Washington, DC 20460. (Please include a total of 2 copies.)

We request that a separate copy of each public comment also be sent to the contact person listed below (see FOR FURTHER INFORMATION CONTACT).

Instructions: Direct your comments to Docket ID No. OAR-2003-0014. The EPA's policy is that all comments received will be included in the public docket without change and may be made available online at http://www.epa.gov/edocket, including any personal information provided, unless the comment includes information claimed to be Confidential Business Information (CBI) or other information whose disclosure is restricted by statute. Do not submit information that you consider to be CBI or other wise protected through EDOCKET, regulations.gov, or e-mail. The EPA EDOCKET and the Federal regulations.gov Web sites are “anonymous access” systems, which means EPA will not know your identity or contact information unless you provide it in the body of your comment. If you send an e-mail comment directly to EPA without going through EDOCKET or regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. (For additional information about EPA's public docket visit EDOCKET on-line or see the Federal Register of May 31, 2002 (67 FR 38102).) For additional instructions on submitting comments, go to Unit I.B. of the SUPPLEMENTARY INFORMATION section of this document.

Docket: All documents in the docket are listed in the EDOCKET index at http://www.epa.gov/edocket. Although listed in the index, some information is not publicly available, i.e., CBI or other information whose disclosure is restricted by statute. Certain other material, such as copyrighted material, is not placed on the Internet and will be publicly available only in hard copy form. Publicly available docket materials are available either electronically in EDOCKET or in hard copy at the HQ EPA Docket Center, Docket ID Number OAR-2003-0014, EPA West, Room B102, 1301 Constitution Avenue, NW., Washington, DC 20460. This docket facility is open from 8:30 a.m. to 4:30 p.m., Monday through Friday, excluding legal holidays. The Docket telephone number is (202) 566-1742. The Public Reading Room is open from 8:30 a.m. to 4:30 p.m., Monday through Friday, excluding legal holidays. The telephone number for the Public Reading Room is (202) 566-1744.

FOR FURTHER INFORMATION CONTACT: Mr. Paul Almodóvar, Coatings and Consumer Products Group (C539-03), Emission Standards Division, U.S. EPA, Research Triangle Park, NC 27711; telephone number (919) 541-0283; facsimile number (919) 541-5689; electronic mail (e-mail) address: almodovar.paul@epa.gov.

SUPPLEMENTARY INFORMATION:

I. General Information

A. Does This Action Apply to Me?

The source category definition includes sources that engage in the coating, printing, slashing, dyeing, or finishing of any fabric or other textile. In general, such sources are covered under the North American Industrial Classification System (NAICS) codes listed below. However, sources classified under other NAICS codes may be subject to the final standard if they meet the applicability criteria. Not all sources classified under the NAICS codes in the following table are subject to the final rule because some of the classifications cover products outside the scope of the Fabric NESHAP.

Categories and entities potentially regulated by this action include:

Category | NAICS code | Examples of regulated entities
Industry | 31321 | Broadwoven fabric mills.
| 31322 | Narrow fabric mills and Schiffli machine embroidery.
| 313241 | Weft knit fabric mills.
| 313311 | Broadwoven fabric finishing mills.
| 313312 | Textile and fabric finishing (except broadwoven fabric) mills.
| 313320 | Fabric coating mills.
| 314110 | Carpet and rug mills.
| 326220 | Rubber and plastics hoses and belting and manufacturing.
| 339991 | Gasket, packing, and sealing device manufacturing.
Federal government |  | Not affected.
State/local/tribal government |  | Not affected.

This table is not intended to be exhaustive, but rather provides a guide for readers regarding entities likely to be regulated by this action. To determine whether your operation is regulated by this action, you should examine the applicability criteria of the final rule (§ 63.4281). If you have any questions regarding the applicability of this action to a particular entity, consult the person listed in the preceding FOR FURTHER INFORMATION CONTACT section.

B. What Should I Consider as I Prepare my Comments for EPA?

1. Submitting CBI. Do not submit this information to EPA through EDOCKET, regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

i. Identify the rulemaking by docket number and other identifying information (subject heading, Federal Register date, and page number).

ii. Follow direction—The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns, and suggest alternatives.

vii. Explain your views as clearly as possible, avoiding the use of profanity or personal threats.

viii. Make sure to submit your comments by the comment period deadline identified.

3. Docket Copying Costs. A reasonable fee may be charged for copying docket materials.

Public Hearing. If a public hearing is held, it will be held at 10 a.m. at the EPA's Environmental Research Center Auditorium, Research Triangle Park, North Carolina, or at an alternate site nearby.

Worldwide Web (WWW). In addition to being available in the docket, an electronic copy of the proposed rule will also be available on the WWW through EPA's Technology Transfer Network (TTN). Following signature by the EPA Administrator, a copy of the proposed rule will be posted on the TTN's policy and guidance page for newly proposed or promulgated rules at http://www.epa.gov/ttn/oarpg/. The TTN provides information and technology exchange in various areas of air pollution control. If more information regarding the TTN is needed, call the TTN HELP line at (919) 541-5384.

Direct Final Rule. A direct final rule identical to the proposal is published in the Rules and Regulations section of today's Federal Register. If we receive any significant adverse comment pertaining to the amendment in the proposal, we will publish a timely notice in the Federal Register informing the public that the amendment are being withdrawn due to adverse comment. We will address all public comments concerning the withdrawn amendment in a subsequent final rule. If no relevant adverse comments are received, no further action will be taken on the proposal and the direct final rule will become effective as provided in that action.

The regulatory text for the proposal is identical to that for the direct final rule published in the Rules and Regulations section of today's Federal Register. For further supplementary information, the detailed rationale for the proposal and regulatory revisions, see the direct final rule published in a separate part of this Federal Register.

Statutory and Executive Order Reviews. The Regulatory Flexibility Act (RFA), as amended by the Small Business Regulatory Enforcement Fairness Act of 1996, 5 U.S.C. 601, et seq., generally requires an agency to prepare a regulatory flexibility analysis of any rule subject to notice and comment rulemaking requirements under the Administrative Procedure Act or any other statute unless the Agency certifies that the rule will not have a significant economic impact on a substantial number of small entities. Small entities include small businesses, small organizations, and small governmental jurisdictions.

For purposes of assessing the impacts of today's proposed rule amendment on small entities, a small entity is defined as: (1) A small business according to Small Business Administration size standards by NAICS code ranging from 500 to 1,000 employees; (2) a small governmental jurisdiction that is a government of a city, county, town, school district or special district with a population of less than 50,000; or (3) a small organization that is any not-for-profit enterprise which is independently owned and operated and is not dominant in its field.

After considering the economic impact of today's proposed rule amendment on small entities, we certify that this action will not have a significant economic impact on a substantial number of small entities. We believe there will be little or no impact on small entities because the purpose of today's proposed amendment is to clarify the applicability of the Fabric NESHAP to coating, slashing, dyeing, or finishing operations at synthetic fiber manufacturing facilities where the fibers are the final product of the facility.

For information regarding other administrative requirements for this action, please see the direct final rule located in the Rules and Regulations section of today's Federal Register.

List of Subjects in 40 CFR Part 63

Environmental protection, Administrative practice and procedure, Air pollution control, Hazardous substances, Intergovernmental relations, and Reporting and recordkeeping requirements.

Dated: July 29, 2004.
Michael O. Leavitt,
Administrator.

[FR Doc. 04-17779 Filed 8-3-04; 8:45 am]

BILLING CODE 6560-50-P